DEPARTMENT OF DEFENSE

Department of the Air Force

[Docket ID: USAF-2009-0010]

Privacy Act of 1974; System of Records

AGENCY: Department of the Air Force, DoD.

ACTION: Notice To Amend a System of Records.

SUMMARY: The Department of the Air Force proposes to amend a system of records to its inventory of record systems subject to the Privacy Act of 1974 (5 U.S.C. 552a), as amended.

DATES: The changes will be effective on February 23, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-6488.

SUPPLEMENTARY INFORMATION: The Department of the Air Force systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: January 15, 2009.
Morgan E. Frazier,
Alternate OSD Federal Register Liaison Officer, Department of Defense.

F036 AFRC A

SYSTEM NAME:

Air Force Inactive Duty Training Records (December 30, 2008, 73 FR 79838)

Changes:

* * * * *

Add category “Storage: Paper records and electronic storage media.”

* * * * *

F036 AFRC A

SYSTEM NAME:

Air Force Inactive Duty Training Records.

SYSTEM LOCATION:

Department of the Air Force, HQ AFRC/FMXS, 155 Richard Ray Blvd., Robins Air Force Base, GA 31098-1635.

CATEGORIES OF INDIVIDUALS COVERED BY THE SYSTEM:

Air Force Reserves Command personnel and reservists.

CATEGORIES OF RECORDS IN THE SYSTEM:

Full name of the individual, military grade, Social Security Number (SSN), Military Reserve and Inactive Duty Training participation records.

AUTHORITY FOR MAINTENANCE OF THE SYSTEM:

10 U.S.C. Code 8013, Department of the Air Force; AFRCI 65-601, Budget Programming and Financial Management; DoD 5000.2-R, Mandatory Procedures for Major Defense Acquisition Programs (MDAPS) and Major Automated Information System Acquisition Programs; and E.O. 9397 (SSN).

PURPOSE:

Manages Inactive Duty Training (IDT) periods such as Unit Training Assembly (UTAs), Readiness Management Period (RMPs), Points Only (PNTs), and Funeral Honor Duty (FHDs) and provides Air Force Reserve Commanders on-site IDT participation information.

ROUTINE USES OF RECORDS MAINTAINED IN THE SYSTEM, INCLUDING CATEGORIES OF USERS AND THE PURPOSES OF SUCH USES:

In addition to those disclosures generally permitted under 5 U.S.C. 552a(b) of the Privacy Act of 1974, these records or information contained therein may specifically be disclosed outside the Department of Defense as a routine use pursuant to 5 U.S.C. 552a(3).

The “Blanket Routine Uses” published at the beginning of the Air Force's compilation of the systems of records notices apply to this system.

POLICIES AND PRACTICES FOR STORING, RETRIEVING, ACCESSING, RETAINING, AND DISPOSING OF RECORDS IN THE SYSTEM:

STORAGE:

Paper records and electronic storage media.

RETRIEVABILITY:

By member's Name and/or Social Security Number.

SAFEGUARDS:

Access is restricted by the use of the Common Access Card, user accounts and user roles. The user roles determine the level of data access received. The transmission of data is protected by using Secure Sockets Layer encryption.

RETENTION AND DISPOSAL:

Data stored within the system is retained only for the period required to satisfy recurring processing requirement and historical requirements, then the expired data is deleted from the system database.

SYSTEM MANAGER AND ADDRESS:

Department of the Air Force, HQ AFRC/FMXS, 155 Richard Ray Blvd., Robins AFB, GA 31098-1635.

NOTIFICATION PROCEDURE:

Individuals seeking to determine if the Reserve Command Unit Training Assembly Processing System contains information on themselves should submit written inquiries to HQ AFRC/FMXS, 155 Richard Ray Blvd., Robins AFB, GA 31098-1635.

The request should contain the full name of the individual, military grade, Social Security Number (SSN) and must be signed.

RECORD ACCESS PROCEDURES:

Individuals seeking to access system information about themselves contained in the Reserve Command Unit Training Assembly Processing System should submit written inquiries to HQ AFRC/FMXS, 155 Richard Ray Blvd., Robins AFB, GA 31098-1635.

The request should contain the full name of the individual, military grade, Social Security Number (SSN) and must be signed.

CONTESTING RECORD PROCEDURES:

The Air Force rules for accessing records and for contesting contents and appealing initial agency determinations are published in Air Force Instruction 33-332; 32 CFR part 806b; or may be obtained from the system manager.

RECORD SOURCE CATEGORIES:

From the individual and Air Reserve Order Writing System—Reserve.

EXEMPTIONS CLAIMED FOR THE SYSTEM:

None.

[FR Doc. E9-1411 Filed 1-22-09; 8:45 am]

BILLING CODE 5001-06-P